DEPARTMENT OF TRANSPORTATION

Federal Aviation Administration

14 CFR Part 39

[Docket No. FAA-2009-0951; Directorate Identifier 2007-SW-52-AD]

RIN 2120-AA64

Airworthiness Directives; Eurocopter France Model AS350B, BA, B1, B2, B3, C, D, D1, AS355E, F, F1, F2, and N Helicopters

AGENCY: Federal Aviation Administration (FAA), DOT.

ACTION: Notice of proposed rulemaking (NPRM).

SUMMARY: We propose to adopt a new airworthiness directive (AD) for the specified Eurocopter France (Eurocopter) model helicopters. This proposed AD results from a mandatory continuing airworthiness information (MCAI) AD issued by the European Aviation Safety Agency (EASA), which is the Technical Agent for the Member States of the European Community. The AD MCAI states “EASA issued Airworthiness Directive (AD) 2006-0251 and its revisions following a case of total failure and a case of a crack discovered on the support shaft of the sliding door rear roller. Metallurgical and metallographic analyses revealed a nonconformity concerning the heat treatment of the material. Since then, other cases of cracks and failures of the roller support shaft rear attach fitting had been reported. This condition, if not corrected, could lead to the loss of the sliding door in flight.”

Separation of a sliding door in flight creates an unsafe condition because the door could come into contact with the rotor system. The proposed AD would require actions that are intended to address this unsafe condition.

DATES: We must receive comments on this proposed AD by November 23, 2009.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

You may get the service information identified in this proposed AD from American Eurocopter Corporation, 2701 Forum Drive, Grand Prairie, Texas 75053-4005, telephone (972) 641-3460, fax (972) 641-3527.

Examining the Docket: You may examine the AD docket on the Internet at http://www.regulations.gov or in person at the Docket Operations office between 9 a.m. and 5 p.m., Monday through Friday, except Federal holidays. The AD docket contains this proposed AD, the economic evaluation, any comments received, and other information. The street address for the Docket Operations office (telephone (800) 647-5527) is in the ADDRESSES section. Comments will be available in the AD docket shortly after receipt.

FOR FURTHER INFORMATION CONTACT: DOT/FAA Southwest Region, Gary Roach, ASW-111, Aviation Safety Engineer, Rotorcraft Directorate, Regulations and Guidance Group, 2601 Meacham Blvd., Fort Worth, Texas 76137, telephone (817) 222-5130, fax (817) 222-5961.

SUPPLEMENTARY INFORMATION:

Comments Invited

We invite you to send any written relevant data, views, or arguments about this proposed AD. Send your comments to an address listed under the ADDRESSES section. Include “Docket No. FAA-2009-0951; Directorate Identifier 2007-SW-52-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

EASA, which is the Technical Agent for the Member States of the European Community, has issued EASA AD No. 2007-0236, dated August 31, 2007, to correct an unsafe condition for specified Eurocopter model helicopters. The MCAI AD states that EASA issued AD 2006-0251 and its revisions following a case of total failure and a case of a crack discovered on the support shaft of the sliding door rear roller. Metallurgical and metallographic analyses revealed a nonconformity concerning the heat treatment of the material. Since then, other cases of cracks and failures of the roller support shaft rear attach fitting had been reported. EASA AD No. 2007-0236 supersedes EASA AD No. 2006-0251R2 but retains the requirements for repetitive inspections until replacement of current parts with improved parts. EASA AD No. 2007-0236 also prohibits installation of another roller support fitting part number (P/N) 350A25-1270-22 on any AS350 or AS355 helicopter. You may obtain further information by examining the MCAI AD and service information in the AD docket.

Related Service Information

On July 18, 2006, Eurocopter issued Alert Service Bulletin (ASB) No. 52.00.30 for modifying the AS350 series helicopters and ASB No. 52.00.23 for modifying the AS355 series helicopters. These ASBs contained modifications 073298 and 073308. The following day, Eurocopter issued ASB No. 05.00.45 for the AS355 model helicopters and No. 05.00.47 for the AS350 model helicopters, both dated July 19, 2006. Later, Eurocopter issued Revision 1 to ASB No. 52.00.23 for the AS355 model helicopters and No. 52.00.30 for the AS350 model helicopters, both dated June 29, 2007, to modify the sliding door medium roller and fitting. The actions described in the MCAI AD are intended to correct the same unsafe condition as that identified in the service information.

FAA's Evaluation and Unsafe Condition Determination

This product has been approved by the aviation authority of France and is approved for operation in the United States. Pursuant to our bilateral agreement with France, EASA, their technical agent, has notified us of the unsafe condition described in the MCAI AD. We are proposing this AD because we evaluated all information provided by EASA and determined an unsafe condition exists and is likely to exist or develop on other products of these same type designs.

Differences Between This AD and the MCAI AD

This AD differs from EASA AD No. 2007-0236 as follows:

• We use the word “inspect” to describe the actions required by a mechanic versus the word “check,” which is how we describe the actions allowed by a pilot.

• We refer to the compliance time as “hours time-in-service (TIS)” rather than “flying hours.”

• We do not require an operator to tell the manufacturer if a crack is found in the shaft.

• We are not including the Model L1, which is a military model helicopter; but we are including the Models 350C and D1 helicopters.

Costs of Compliance

We estimate that this proposed AD would affect about 725 products of U.S. registry. We also estimate that it would take about 4 work-hours per helicopter to inspect and modify the sliding doors. The average labor rate is $80 per work-hour. Required parts would cost about $7,000 per helicopter. Based on these figures, we estimate the cost of the proposed AD on U.S. operators to be $5,307,000.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared an economic evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Eurocopter France: Docket No. FAA-2009-0951; Directorate Identifier 2007-SW-52-AD.

Comments Due Date

(a) We must receive comments by November 23, 2009.

Other Affected ADs

(b) None.

Applicability

(c) This AD applies to Eurocopter France Model AS350B, BA, B1, B2, B3, C, D, D1, AS355E, F, F1, F2, and N helicopters, with sliding door pre-MOD 073298 or pre-MOD 073308, installed, certificated in any category.

Reason

(d) The mandatory continuing airworthiness information (MCAI) AD states “EASA issued Airworthiness Directive (AD) 2006-0251 and its revisions following a case of total failure and a case of a crack discovered on the support shaft of the sliding door rear roller. Metallurgical and metallographic analyses revealed a nonconformity concerning the heat treatment of the material. Since then, other cases of cracks and failures of the roller support shaft rear attach fitting had been reported. This condition, if not corrected, could lead to the loss of the sliding door in flight.” Separation of a sliding door in flight creates an unsafe condition because the door could come into contact with the rotor system. This AD requires actions that are intended to address this unsafe condition.

Actions and Compliance

(e) Required as indicated.

(1) For a sliding door with less than 90 hours time-in-service (TIS), on or before accumulating a total of 110 hours TIS, unless already done, conduct the visual and dye penetrant inspections of the support shaft of the rear roller and the rear fitting (fitting) of the sliding door for a crack by reference to Figure 1 and by following the Operational Procedure, paragraph 2.B.1 and 2.B.2, of Eurocopter Alert Service Bulletin (ASB) No. 05.00.47 dated July 19, 2006, for the Model AS350 helicopters (ASB 05.00.47) or ASB No. 05.00.45 dated July 19, 2006, for the Model AS355 helicopters (ASB 05.00.45), except you are not required to contact the manufacturer.

(i) If no crack is found in the shaft or fitting, reinstall the shaft on the fitting, fit the spring pins, and plug the pin holes by following the Operational Procedure, paragraph 2.B.2. of ASB 05.00.47 or 05.00.45, whichever is appropriate for your model helicopter.

(ii) If you find a crack in the fitting, replace the fitting with an airworthy fitting before further flight.

(iii) If you find a crack in the shaft, replace the shaft with an airworthy shaft before further flight, by reference to Figure 1 and following paragraph 2.B.3. of ASB 05.00.47 or 05.00.45, whichever is appropriate for your model helicopter.

(2) For a sliding door with 90 or more hours TIS, within the next 20 hours TIS, unless already done, and thereafter at intervals not to exceed 110 hours TIS, conduct the visual and dye penetrant inspections of the support shaft of the rear roller and the fitting of the sliding door for a crack by reference to Figure 1 and by following the Operational Procedure, paragraph 2.B.1 and 2.B.2, of ASB 05.00.47 or ASB 05.00.45, whichever is appropriate for your model helicopter, except you are not required to contact the manufacturer.

(i) If no crack is found in the shaft and fitting, reinstall the shaft or fitting, fit the spring pins, and plug the pin holes by following the Operational Procedure, paragraph 2.B.2. of ASB 05.00.47 or 05.00.45, whichever is appropriate for your model helicopter.

(ii) If you find a crack in the fitting, replace the fitting with an airworthy fitting before further flight.

(iii) If you find a crack in the shaft, replace the shaft with an airworthy shaft before further flight by reference to Figure 1 and by following paragraph 2.B.3. of ASB 05.00.47 or 05.45, whichever is appropriate for your model helicopter.

(3) After the effective date of this AD, do not install any of the following parts on any helicopter:

(i) Left-hand sliding door, part number (P/N) 350A25-0030-00XX, 350A25-0120-00XX, and 350AMR-0227-0052;

(ii) Right-hand sliding door, P/N 350A25-0030-01XX, 350A25-0120-01XX, 350A25-0120-03XX, and 350AMR-0227-0051;

(iii) Rail roller pin, P/N 350A25-1275-20; and

(iv) Cast roller support fittings, P/N 350A25-1270-20 and P/N 350A25-1270-22.

Differences Between This AD and the MCAI AD

(f) This AD differs from EASA AD No. 2007-0236 as follows:

(1) We use the word “inspect” to describe the actions required by a mechanic versus the word “check,” which is how we describe the actions allowed by a pilot.

(2) We refer to the compliance time as hours time-in-service (TIS) rather than flying hours.

(3) We do not require an operator to inform the manufacturer if a crack is found in the shaft as specified in the service information.

(4) We do not include the Model L1, which is a military model helicopter; but we are including the Models 350C and D1 helicopters.

Other Information

(g) Alternative Methods of Compliance (AMOCs): The Manager, Safety Management Group, Rotorcraft Directorate, ATTN: DOT FAA, Southwest Region, Gary Roach, ASW-111, Aviation Safety Engineer, Regulations and Guidance Group, 2601 Meacham Blvd., Fort Worth, Texas 76137, telephone (817) 222-5130, fax (817) 222-5961, has the authority to approve AMOCs for this AD, if requested, using the procedures found in 14 CFR 39.19.

Related Information

(h) MCAI EASA AD No. 2007-0236, dated August 31, 2007, contains related information.

Joint Aircraft System Component (JASC) Code

(i) JASC Code 5344: Fuselage Door Hinges.

Issued in Fort Worth, Texas, on October 8, 2009.
Larry M. Kelly,
Acting Manager, Rotorcraft Directorate, Aircraft Certification Service.

[FR Doc. E9-25440 Filed 10-21-09; 8:45 am]

BILLING CODE 4910-13-P